DEPARTMENT OF LABOR

Employment and Training Administration

[TA-W-56,998]

Nestle USA; St. Louis, MO; Notice of Termination of Investigation

Pursuant to Section 221 of the Trade Act of 1974, as amended, an investigation was initiated on April 18, 2005 in response to a petition filed on behalf of workers of Nestle USA, St. Louis, Missouri.

The petitioners have requested that the petition be withdrawn. Consequently, the investigation has been terminated.

Signed at Washington, DC, this 25th day of April, 2005.
Linda G. Poole,
Certifying Officer, Division of Trade Adjustment Assistance.

[FR Doc. E5-2433 Filed 5-13-05; 8:45 am]

BILLING CODE 4510-30-P